DEPARTMENT OF DEFENSE

Office of the Secretary

[Docket ID: DoD-2014-HA-0162]

Proposed Collection; Comment Request

AGENCY: Office of the Assistant Secretary of Defense for Health Affairs, DoD.

ACTION: Notice.

SUMMARY: In compliance with the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 3, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Assistant Secretary of Defense for Health Affairs (OASD), Defense Health Headquarters (DHA), Analytics Division, ATTN: Richard Bannick, Ph.D., 7700 Arlington Blvd., Falls Church, VA 22042-5101, or call 703-681-3636.

SUPPLEMENTARY INFORMATION: Title; Associated Form; and OMB Number: Surveys on Viability of TRICARE Standard and TRICARE Extra; OMB Control Number 0720-0031.

Needs and Uses: The information collection requirement is necessary to determine how many providers are aware of the TRICARE health benefits program, and specifically accept new TRICARE Standard patients in each market area. Surveys will be conducted in a number of locations in the United States each fiscal year from 2012 to 2015. The locations surveyed will include areas where the TRICARE Prime benefit is offered (known as TRICARE PRIME Service Areas) and geographic areas where TRICARE Prime is not offered. These congressionally mandated surveys of civilian health care providers and beneficiaries who use TRICARE will be completed in TRICARE market areas within the United States.

Affected Public: Individuals or households.

Annual Burden Hours: 4,167.

Number of Respondents: 50,000.

Responses per Respondent: 1.

Average Burden per Response: 5 minutes.

Frequency: Annually.

Under the authority of the Office of the Assistant Secretary of Defense (Health Affairs), (OASD(HA)), Defense Health Agency (DHA) will continue to evaluate DoD's TRICARE Standard health care option. This evaluation includes collecting and analyzing survey-based data that are necessary to meet the requirements outlined originally in Section 711, National Defense Authorization Act (NDAA) for Fiscal Year (FY) 2008, Public Law 110-181 and reaffirmed in Section 721, National Defense Authorization Act (NDAA) for Fiscal Year (FY) 2012, Public Law 112-81. The Department will extend the evaluation consistent with proposed legislation extending the period from 2015 to 2018.

Activities include the collection and analyses of data obtained confidentially from civilian physicians (M.D.s & D.O.s) and non-physician behavioral health providers (to include clinical psychologists, clinical social workers and other TRICARE authorized behavioral health providers) within U.S. geographic areas. Specifically, mail surveys with telephone follow-up of civilian providers will be conducted in the TRICARE market areas to determine how many health care providers are accepting new patients under TRICARE Standard in each market area. The surveys will be conducted in several TRICARE geographic areas in the United States each fiscal year from fiscal year 2012 through and including fiscal year 2016 to complete the 2015 survey. Representatives of TRICARE beneficiaries and selected provider groups will be consulted to identify potential locations. In addition, Section 721 of the FY 2012 National Defense Authorization Act (NDAA) requires the Department to conduct annual surveys of beneficiary access experience and the availability to access civilian providers under TRICARE Standard and Extra program through the same period. These issues address the interests of Congress in reconciliation of responses of providers and beneficiaries who use TRICARE. Surveys of civilian health care providers (M.D.s, D.O.s and non-physician behavioral health providers) and beneficiaries eligible for TRICARE Standard/Extra care will be conducted in areas where TRICARE Prime is offered and where it is not offered each year. The objective of this effort is to determine if TRICARE beneficiaries have difficulty in finding health care providers willing to provide services under Standard or Extra, and the extent to which providers in the area participate in Standard/Extra.

Dated: December 29, 2014.
Aaron Siegel,
Alternate OSD Federal Register Liaison Officer, Department of Defense.

[FR Doc. 2014-30753 Filed 12-31-14; 8:45 am]

BILLING CODE 5001-06-P